DEPARTMENT OF THE INTERIOR

Fish and Wildlife Service

Notice of Intent To Issue a Final Comprehensive Conservation Plan, Associated Environmental Assessment, and Finding of No Significant Impact for Sevilleta National Wildlife Refuge in the Southwest Region

AGENCY: Fish and Wildlife Service, Interior.

ACTION: Notice.

SUMMARY: This notice advises the public that the U.S. Fish and Wildlife Service (Service) has prepared a Final Comprehensive Conservation Plan (CCP), associated Environmental Assessment (EA), and a Finding of No Significant Impact (FONSI) for the Sevilleta Lake National Wildlife Refuge, San Acacia, New Mexico, pursuant to the National Wildlife Refuge System Improvement Act of 1997, and National Environmental Policy Act of 1969, and its implementing regulations. The Regional Director, Southwest Regional Office, upon issuing a FONSI, considered a reasonable range of management framework alternatives.

Approval of the Sevilleta NWR CCP formalizes 10 goals which will result in:

• The enhancement, preservation, and protection of threatened and endangered species as they occur naturally or were historically present on the Sevilleta NWR so that viable, self-sustaining populations can be restored to their natural habitats. (Goal 1)

• The restoration and maintenance of the natural diversity of plants and animals as it occurred historically on the Sevilleta NWR. (Goal 2)

• The fostering and encouragement of research from bonafide research institutions, the provision of an atmosphere conducive to investigations into environmental processes on the refuge, and the assumption of pro-active role in facilitating research projects as they occur on the refuge. (Goal 3)

• The protection of existing, and acquisition of additional water rights and/or in-stream flow rights as necessary to protect the integrity of the riparian and aquatic habitats on the refuge. (Goal 4)

• The achievement of appropriate levels of public uses that are compatible with the purpose(s) for which the refuge was established and with the goals of the National Wildlife Refuge System; and the regulation of, as provided by law, all activities, uses, and practices that are potentially harmful to refuge resources. (Goal 5)

• The establishment of a formal program for public outreach, identification of important public resources, and implementation of environmental education programs accordingly. (Goal 6)

• The protection, maintenance, and monitoring of Service-managed cultural resources on Sevilleta NWR for the benefit of present and future generations. (Goal 7)

• The protection of existing lands associated with Sevilleta NWR for the benefit of fish and wildlife resources; the acquisition of additional lands; and the protection of the integrity of Refuge boundaries relative to adjacent lands. (Goal 8)

• The improvement of funding, facilities, and staffing that will result in enhancement of refuge habitat and wildlife resources, leading to the achievement of the goals of this plan and the goals of the National Wildlife Refuge System. (Goal 9)

• The strengthening of interagency and jurisdictional coordination on or near the Sevilleta NWR resulting in decisions benefitting fish and wildlife resources while avoiding duplication of effort. (Goal 10)

Some of the specific changes to the existing program changes include but are not necessarily limited to the following objectives:

• Continue implementation of the Mexican wolf captive propagation program on the refuge, and ensure continued operation within all applicable regulations, protocols, and safety guidelines.

• Preserve refuge habitat diversity and threatened and endangered species habitats by preserving and restoring habitats to their natural condition. This may involve aggressive removal of non-native plants (e.g., salt cedar) and wildlife (e.g., oryx, Barbary sheep).

• Maintain a viable population of silvery minnows on the Rio Grande within the refuge.

• Provide up to 100 acres of additional cottonwood/willow habitat for the southwestern willow flycatcher.

• By the end of FY 2001 (September 30, 2001), assess the refuge's full wilderness attributes, and determine appropriate areas within the full spectrum of the refuge for study and designation as Wilderness Study Areas. Included will be the dedication of between 3,000 and 8,000 acres as the Ladron Wilderness Study Area.

• Evaluate refuge grasslands potential as an introduction site for the endangered northern Aplomado falcon.

• Protect threatened and endangered species on the refuge and adjacent properties through outreach, educational activities and effective enforcement of fish and wildlife laws.

• Promote and support the introduction of native threatened and endangered species on the refuge.

• Ensure the integrity of all naturally occurring biotic communities on the Sevilleta NWR.

• Maintain migratory bird populations at healthy levels in the Upper/Middle Rio Grande Ecosystem.

• Reverse declining trends in quality and quantity of riparian/wetland habitats; restore, maintain, and enhance the species composition, aerial extent, and spatial distribution of riparian/wetland habitats.

• Protect, restore, and maintain upland terrestrial communities at the landscape level within the Upper/Middle Rio Grande Ecosystem.

• Use sound land use practices and management tools to protect upland terrestrial habitats in the Upper/Middle Rio Grande Ecosystem.

• Preserve, enhance, and restore hydrological regimes to perpetuate a healthy river ecosystem. Use the Rio Grande Initiative to form partnerships that address water management, habitat enhancement, and restoration, and impacts of non-native plants and animals on biological diversity and endangered species.

• Compile a database of the baseline natural conditions, processes, and species associated within refuge ecosystems.

• Attain baseline natural conditions, processes, and populations of species in 50 percent of each habitat type by 2010. If attainment is not possible, implement adaptive management strategies designed to attain desired conditions.

• Contribute to the integrity of the Upper/Middle Rio Grande Watershed using sound management tools and practices.

• Map and determine aquifer sources and characteristics of upland seeps, springs, and other water sources on the refuge.

• Quantify water needs to maintain 90 acres of existing refuge wetlands and to restore 500 acres of wetlands associated with the Rio Grande.

• Acquire in-stream flow rights for the perennial portion of the Rio Salado, Rio Puerco, and other tributary streams.

• Develop partnerships, relationships, and communications to improve implementation of refuge wildlife and habitat management goals.

• Minimize human impacts to refuge ecosystems.

• Encourage research that improves management and monitoring of species, communities, and processes on the refuge and the Upper/Middle Rio Grande.

• Permit and encourage research from a wide range of interested parties and institutions while protecting the plants and wildlife of the ecosystem from detrimental human intrusion and manipulative research protocols.

• Minimize impacts of formal research activities.

• Provide the research community a unique opportunity to conduct wildlife-related research, which in turn provides the refuge with management direction.

• Provide the general public with high quality, wildlife-dependent experiences on and off the refuge.

• Provide the general public with high quality environmental education and wildlife-dependent experiences on and off the refuge.

• Develop sound management practices to protect cultural resources, within the scope of Part 614 of the Service Manual and all applicable federal laws and regulations.

• Minimize obtrusive impacts to refuge lands or adjacent lands.

• Document the need for additional staffing.

• Obtain adequate staffing to implement management plans benefiting the Upper/Middle Rio Grande Ecosystem both on and off refuge lands.

• Improve facilities to enhance refuge capabilities and resources, including the construction of an 8,000- square foot visitor center/ administrative complex; two 1,500- square foot staff residences; and a multi-unit living facility for refuge volunteers.

• Relocate the law enforcement training shooting range to a new location to eliminate the current hazards.

The implementation of the above management approaches among others and employment of strategies associated with those approaches should assist in the achievement of the refuge's broad goals:

Based on a review and evaluation of the information contained in the CCP and EA for the Sevilleta NWR, the Regional Director, Southwest Region, U.S. Fish and Wildlife Service, has determined that the approval of the individual or cumulative approaches reflected in the Proposed Alternative and CCP Goals, Objectives and Strategies, is not deemed to constitute a major Federal action which would significantly affect the quality of the human environment within the meaning of Section 102(2)(c) of the National Environmental Policy Act (NEPA). Therefore, an Environmental Impact Statement is not required. However, it is the intent of the Service to revisit questions of potential significant environmental consequences in accordance with NEPA upon consideration of the implementation of site specific proposals called for and discussed in the final plan document.

ADDRESSES: A paper copy and/or a Compact Disk copy may be obtained by writing to: Mr. Tom Baca, Natural Resources Planner, Division of Refuges, U.S. Fish and Wildlife Service, P.O. Box 1306, Albuquerque, NM 87103-1306.

SUPPLEMENTARY INFORMATION: It is Service policy to have all lands within the National Wildlife Refuge System managed in accordance with an approved CCP. The CCP guides management decisions and identifies refuge goals, long-range objectives, and strategies for achieving refuge purposes. The planning process has considered many elements, including habitat and wildlife management, habitat protection and acquisition, public and recreational uses, and cultural resources. Public input into this planning process has assisted in the development of these documents. The CCP will provide other agencies and the public with a clear understanding of the desired conditions for the Refuges and how the Service will implement management strategies.

The Service considered comments and advice generated in response to draft documents issued in November 1998. The Service is furnishing this notice in compliance with Service CCP policy to advise other agencies and the public of the availability of the final documents.

Dated: November 30, 2000.
Thomas C. Bauer,
Acting Regional Director.

[FR Doc. 00-31747 Filed 12-14-00; 8:45 am]

BILLING CODE 4310-55-U